DEPARTMENT OF JUSTICE

Notice of Lodging of Consent Decree Under the Oil Pollution Act (OPA)

In accordance with Departmental policy, 28 CFR 50.7, notice is hereby given that a proposed Consent Decree in United States of America v. BD Oil Gathering, Inc., Civil Action No. 2:03-0253, was lodged with the United States District Court for the Southern District of West Virginia on March 24, 2003.

In this action, the United States sought assessment of civil penalties for Defendant's violation of section 311(b)(3) of the Clean Water Act, 33 U.S.C. 1321(b)(3) and the implementing regulations at 40 CFR part 100. On or about December 23, 1998, BD Oil, by and through its employee or agent, operated a truck in Roane County, West Virginia, that ruptured and discharged approximately 92 barrels of oil into the Big Sandy Creek. Within ten days of entry of the Consent Decree, BD Oil will pay a civil penalty of $11,000.00 to the Oil Spill Liability Trust Fund. In addition to the civil penalty, BD Oil agrees to create and maintain a Spill Response Unit (SRU) to respond to oil spills and oil discharges within a designated portion of eastern Ohio and western West Virginia.

The Department of Justice will receive, for a period of thirty (30) days from the date of this publication, comments relating to the proposed Consent Decree. Comments should be addressed to the Assistant Attorney General, Environment and Natural Resources Division, PO Box 7611, U.S. Department of Justice, Washington, DC 20044-7611, and should refer to United States of America v. BD Oil Gathering, Inc., D.J. Ref. 90-5-1-1-06959.

The Consent Decree may be examined at the Office of the United States Attorney, Southern District of West Virginia, 3000 Virginia Street, Suite 4000, Charleston, West Virginia 25301; and at U.S. Environmental Protection Agency, Region III Office, 1650 Arch Street, Philadelphia, Pennsylvania 19103-2029. During the public comment period, the proposed Consent Decree may also be examined on the following Department of Justice Web site, http://www.usdoj.gov/enrd/open.html. A copy of the proposed Consent Decree may also be obtained by (1) mail from the Consent Decree Library, PO Box 7611, U.S. Department of Justice, Washington, DC 20044-7611; or by (2) faxing or e-mailing a request to Tonia Fleetwood (e-mail: tonia.fleetwood@usdoj.gov; fax no: (202) 514-0097; phone confirmation (202) 514-1547). In requesting a copy from the Consent Decree Library, please enclose a check in the amount of $8.75 (25 cents per page reproduction cost), made payable to the U.S. Treasury.

Robert Brook,
Assistant Section Chief, Environmental Enforcement Section, Environment and Natural Resources Division.

[FR Doc. 03-8644 Filed 4-8-03; 8:45 am]

BILLING CODE 4410-15-M